ENVIRONMENTAL PROTECTION AGENCY

[OPP-50872; FRL-6739-9]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Registration Division (7505C), Office of Pesticide Programs, Environmental Protection Agency, 1200 Pennsylvania Ave., NW., Washington, DC 20460.

In person or by telephone: Contact the designated person at the following address at the office location, telephone number, or e-mail address cited in each experimental use permit: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

11312-EUP-105. Issuance. Agricultural Research Service (ARS) of the U.S. Department of Agriculture (USDA), Beltsville, MD 20705. This EUP allows the use of 26 pounds of the insecticide Phloxine B on 200 acres of field corn to evaluate the control of northern, southern, western, and mexican corn rootworms. The program is authorized only in the States of Nebraska and South Dakota. The EUP is effective from August 1, 2000 to October 1, 2000. The Agency considers this EUP to be non-food/non-feed because of the low use rate (1-2 oz per acre), the site of application (outer shucks of the corn), type of harvesting (mechanical harvesting and separation of shucks from ear), and composting of the shucks in the ground following application of product. (Daniel Peacock; Rm. 223, Crystal Mall #2; telephone number: (703) 305-5407; e-mail address: peacock.dan@epa.gov).

62719-EUP-44. Amendment. Dow AgroSciences LLC, 9330 Zionsville Rd., Indianapolis, IN 46268-1054. This experimental use permit allows the use of 3,379,758 pounds of the soil fumigants 1,3-dichloropropene and chloropicrin from the product InLine on 15,000 acres of soil, treated using drip irrigations systems only, to be planted to the commodities cauliflower, cucumbers, eggplant, lettuce, melons, onions, peppers, pineapples, squash, strawberries, and tomatoes to evaluate the control of nematodes, symphylans and certain soil-borne diseases. The program is authorized only in the States of Alabama, Arizona, California, Colorado, Delaware, Florida, Georgia, Hawaii, Idaho, Michigan, New Jersey, New Mexico, North Carolina, Oregon, South Carolina, Texas, Virginia, and Washington. The experimental use permit is effective from June 25, 1999 to June 25, 2002. (Mary L. Waller, Product Manager (21); Rm. 249, Crystal Mall #2; telephone number: (703) 308-9354; e-mail address: waller.mary@epa.gov).

62719-EUP-46. Issuance. Dow AgroSciences LLC, 9330 Zionsville Rd., Indianapolis, IN 46268-1054. This experimental use permit allows the use of 237,350 pounds of the nematicide 1,3-dichloropropene on 5,000 acres of golf course turf to evaluate the control of plant parasitic nematodes. The program is authorized only in the State of Florida. The experimental use permit is effective from August 28, 2000 to August 28, 2001. (Mary L. Waller; Rm. 249, Crystal Mall #2; telephone number: (703) 308-9354; e-mail address: waller.mary@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: September 18, 2000.
James Jones,
Director, Registration Division, Office of Pesticide Programs.

[FR Doc. 00-24679 Filed 9-26-00; 8:45 am]

BILLING CODE 6560-50-S